DEPARTMENT OF THE INTERIOR

Bureau of Land Management

[NM-930-00-1040-DE]

Correction to Notice of Extension of Public Comment Period

AGENCY: Bureau of Land Management, Interior.

ACTION: Correction to notice of extension of public comment period for thirty (30) days.

SUMMARY: The Bureau of Land Management (BLM) announced the extension of the public comment on four Draft Riparian and Aquatic Habitat Management Plan Environmental Impact Statements (DEISs) and Possible Resource Management Plan Amendments (RMPAs). The four documents are for Taos Field Office, the Farmington Field Office, the Albuquerque Field Office and the Las Cruces Field Office.

The correction to that Federal Register Notice is as follows:

In the SUPPLEMENTARY INFORMATION section of the Federal Register Notice dated January 21, 2000, delete the word “two” and replace it with the word “four”.

Dated: January 24, 2000.
Richard A. Whitley,
Acting State Director.

[FR Doc. 00-2077 Filed 1-31-00; 8:45am]

BILLING CODE 4310-FB-M